FEDERAL MINE SAFETY AND HEALTH REVIEW COMMISSION

Sunshine Act Notice

February 6, 2015.

TIME AND DATE: 1:00 p.m., Thursday, February 19, 2015.

PLACE: The Richard V. Backley Hearing Room, Room 511N, 1331 Pennsylvania Avenue NW., Washington, DC 20004 (enter from F Street entrance).

STATUS: Open.

MATTERS TO BE CONSIDERED: The Commission will consider and act upon the following in open session: Big Ridge, Inc. v. Secretary of Labor, Docket Nos. LAKE 2011-699-R, et al.; and Jim Walter Resources, Inc. v. Secretary of Labor, Docket Nos. SE 2011-477-R, et al. (Issues include whether the Administrative Law Judges erred in upholding certain orders issued pursuant to sections 103(j) and 103(k) of the Federal Mine Safety and Health Act of 1977.)

Any person attending this meeting who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD Relay/1-800-877-8339 for toll free.

Sarah L. Stewart,
Deputy General Counsel.

[FR Doc. 2015-02871 Filed 2-6-15; 4:15 pm]

BILLING CODE 6735-01-P